NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by October 22, 2018. This application may be inspected by interested parties at the Permit Office, address below.

ADDRESSES: Comments should be addressed to Permit Office, Office of Polar Programs, National Science Foundation, 2415 Eisenhower Avenue, Alexandria, Virginia 22314.

FOR FURTHER INFORMATION CONTACT: Nature McGinn, ACA Permit Officer, at the above address, 703-292-8030, or ACApermits@nsf.gov.

SUPPLEMENTARY INFORMATION: The National Science Foundation, as directed by the Antarctic Conservation Act of 1978 (Pub. L. 95-541, 45 CFR 670), as amended by the Antarctic Science, Tourism and Conservation Act of 1996, has developed regulations for the establishment of a permit system for various activities in Antarctica and designation of certain animals and certain geographic areas a requiring special protection. The regulations establish such a permit system to designate Antarctic Specially Protected Areas.

Application Details

Permit Application: 2019-007

1. Applicant

Natasja van Gestel, Texas Tech University, Biological Sciences Department, 2901 Main Street, Lubbock, TX 79409.

Activity for Which Permit Is Requested: Enter Antarctic Specially Protected Area, collect soil and vegetation samples. The applicant proposes to enter Antarctic Specially Protected Area (ASPA) 113, Litchfield Island, Arthur Harbor, to study Antarctic soils, microbial communities, and vegetation. The studies would involve short-term, temporary installation of chambers around study plots; temporary installations of data loggers, sensors, and gauges; minimal soil sample collection; and collection of minimal vegetation samples. The applicant would collect 5 plants each of the species Deschampsia antarctica and Colobanthus quitensis and up to 20 small samples of various moss species. Moss samples would be collected near Palmer Station preferentially, if species are available there. All samples would be taken to the home institution for analysis and, ultimately, herbarium curation.

Location: ASPA 113, Litchfield Island, Arthur Harbor; Anvers Island, Palmer Station area.

Dates of Permitted Activities: December 5, 2018-April 10, 2019.

Permit Application: 2019-008

2. Applicant

Caitlin Saks, WGBH, 1 Guest Street, Boston, MA 02135.

Activity for Which Permit Is Requested: Enter Antarctic Specially Protected Areas (ASPA). The applicant would enter ASPA 121, Cape Royds, Ross Island; ASPA 155, Cape Evans, Ross Island; ASPA 157, Backdoor Bay, Cape Royds, Ross Island; ASPA 158, Hut Point, Ross Island; ASPA 172, Lower Taylor Glacier and Blood Falls, Taylor Valley to film scientific research being conducted, historically significant locations, and the natural environment. The resulting film and photography would be used to create a series of media products including a two-hour documentary. The applicant proposes to employ a video-camera and tripod, possibly a light stand (inside historic huts), a 360 degree virtual reality camera, and, where feasible and allowable, a small, remotely piloted aircraft system with a camera payload. The applicant would enter the historic huts with a trained guide and would abide by the management plans of all ASPAs visited. The results of this work are expected to be useful for outreach and education about Antarctica and the scientific research conducted there.

Location: ASPA 121, Cape Royds, Ross Island; ASPA 155, Cape Evans, Ross Island; ASPA 157, Backdoor Bay, Cape Royds, Ross Island; ASPA 158, Hut Point, Ross Island; ASPA 172, Lower Taylor Glacier and Blood Falls, Taylor Valley; McMurdo Station area; McMurdo Dry Valleys.

Dates of Permitted Activities: October 22-November 19, 2018.

Suzanne H. Plimpton,
Reports Clearance Officer, National Science Foundation.

[FR Doc. 2018-20470 Filed 9-19-18; 8:45 am]

BILLING CODE 7555-01-P